MERIT SYSTEMS PROTECTION BOARD

Agency Information Collection Activities; Proposed Collection

AGENCY: Merit Systems Protection Board.

ACTION: Notice.

SUMMARY: The U.S. Merit Systems Protection Board (MSPB) is requesting a three year renewal of OMB clearance of its soon to expire Generic Clearance Request for Voluntary Customer Surveys Under Executive Order 12862 “Setting Customer Service Standards” from the Office of Management and Budget (OMB) under section 3506 of the Paperwork Reduction Act of 1995, OMB Control Number: 3124-0012.

In this regard, we are soliciting comments on the public reporting burden. The reporting burden for the collection of information on this request is estimated to vary from 5 minutes to 30 minutes per response, with an average of 15 minutes, including time for reviewing instructions, searching existing data sources, gathering and maintaining the data needed, and completing and reviewing the collection of information.

Estimated Annual Reporting Burden
5 CFR section | Annual number of respondents | Frequency per response | Total annual responses | Hours per response (average) | Total hours
1201 and 1209 | 2,000 | 1 | 1,500 | .25 | 375

In addition, the MSPB invites comments on (1) whether the proposed collection of information is necessary for the proper performance of MSPB's functions, including whether the information will have practical utility; (2) the accuracy of MSPB's estimate of burden of the proposed collection of information, including the validity of the methodology and assumptions used; (3) ways to enhance the quality, utility, and clarity of the information to be collected; and (4) ways to minimize the burden of the collection of information on respondents, including through the use of automated collection techniques, when appropriate and other forms of information technology.

DATES: Comments must be received on or before August 9, 2004.

ADDRESSES: Comments concerning the paperwork burden should be address to Dr. Dee Ann Batten, Merit Systems Protection Board, 1615 M Street, NW., Washington, DC 20419 or by calling (202) 653-6772, ext. 1411.

Bentley M. Roberts, Jr.,
Clerk of the Board.

[FR Doc. 04-12843 Filed 6-7-04; 8:45 am]

BILLING CODE 7401-01-P